DEPARTMENT OF HOUSING AND URBAN DEVELOPMENT

[Docket No. FR-4579-FA-22]

Announcement of Funding Awards for Fiscal Year 2003, Research and Technology Unsolicited Proposals

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2003 unsolicited research. The purpose of this document is to announce the names and addresses of the organizations that have been awarded cooperative agreements based on their submission and HUD's acceptance of unsolicited proposals for research funding.

FOR FURTHER INFORMATION CONTACT: Patrick J. Tewey, Director, Budget, Contracts and Program Control Division, Office of Policy Development and Research, Room 8230, 451 7th Street, SW., Washington, DC 20410-6000, telephone (202) 708-1796, extension 4098. To provide service for persons who are hearing-or-speech-impaired, this number may be reached via TTY by dialing the Federal Information Relay Service on 1-800-877-TTY, 1-800-877-8339, or 202-708-1455. (Telephone number, other than “800” TTY numbers are not toll free.)

SUPPLEMENTARY INFORMATION: The Consolidated Appropriations Resolution of 2003 (Pub. L. 108-7) provided $46,694,500 in Research and Technology funds for contracts, grants and necessary expenses of programs and studies relating to housing and urban problems. Included in this amount are $39,243,250 for core Research and Technology and $7,451,250 in funding for the Partnership for Advancing Technology in Housing (PATH) program. The majority of HUD's Research and Technology funding is awarded through competitive solicitations. The unsolicited proposal is another method used by HUD to fund research and development. An unsolicited proposal is submitted to support an idea, method or approach by individuals and organizations solely on the submitter's initiative. Funding of unsolicited proposals is considered a noncompetitive action. An unsolicited proposal demonstrates a unique and innovative concept or a unique capability of the submitter, offers a concept or service not otherwise available to the Government and does not resemble the substance of a pending competitive action. All unsolicited proposals and the resulting award of cooperative agreements include substantial cost sharing on the part of the submitter/awardee.

The Catalog of Federal Domestic Assistance for this program is 14.506.

In accordance with section 102(a)(4)(C) of the Department of Housing and Urban Development Reform Act of 1989 (103 Stat. 1987, 42 U.S.C. 3545), the Department is publishing details concerning the recipients of funding awards, as follows:

List of FY2003 Awardees for Cooperatives Agreements

Council of Professional Associations on Federal Statistics (COPAFS), Edward Sparr, Executive Director, 1249 Duke Street, Alexandria, VA 22314, Grant Number: H-21400SG, Project Title: “Seminar on Redefining Metro/Non-Metro”, Total Amount $10,000, Date Awarded: 9/23/03

MDRC, Jesus M. Amadeo, Senior Vice President, 16 East 34th Street, New York, NY 10016, Grant Number H-21042CA, Project Title: “Jobs-Plus Community Revitalization Initiative for Public Housing Families”, Total Amount $1,100,000, Date Awarded: 5/31/03

NAHB Research Center, Michael Luzier, President, 400 Prince Georges Boulevard, Upper Marlboro, MD 20774, Grant Number: H-21396CA, Project Title: “Tool Base Services 2003, The Portal to Technical Information for the Home Building Industry”, Total Amount $905,000, Date Awarded 5/29/03

National Building Museum, G. Martin Moeller, Senior Vice President for Special Projects, 401 F Street, NW., Washington, DC 20001, Grant Number: H-21399CA, Project Title: “National Building Museum Affordable Housing Design Program”, Total Amount: $238,700, Date Awarded: 9/23/03

New Mexico State University, Daniel J. Dwyer, Vice Provost for Research, Las Cruces, New Mexico 88003, Grant Number: H-21397CA, Project Title: “Colonias Economic Development Policy”, Total Amount: $179,000, Date Awarded: 5/12/03

Touchstone Research Laboratory, Ltd. William Casto, Chief Financial Officer, The Millennium Centre, Triadelphia, WV 26059, Grant Number: H-21363CA, Project Title: “Housing Applications for New Carbon Foam Technology Materials”, Total Amount: $187,763, Date Awarded: 11/14/02

University of Colorado, Dorothy Yates, Director, Sponsored Programs, Institute of Public Policy, Graduate School of Public Affairs, 1445 Market Street, Denver, CO 80202, Grant Number: H-21401CA, Project Title: “Employer-Assisted Employee Housing Pilot Program Study in Nicaragua”, Total Amount: $20,000, Date Awarded: 7/25/03

University of Maryland at College Park, Monique Anderson, Contract Manager, Office of Research Administration and Advancement, 3112 Lee Building, College Park, MD 20742, Grant H-21403CA, Project Title: “Zoning as a Barrier to Affordable Housing”, Total Amount $300,000, Date Awarded: 9/30/03

Urban Land Institute, Cheryl Cummins, Chief Operating Officer, 1025 Thomas Jefferson Street, NW., Washington, DC 20007, Grant Number: H-21404CA, Project Title: “Research on Barriers to Land Acquisition and Infill Development”, Total Amount: $151,052, Date Awarded: 9/30/03

Dated: November 6, 2003.
Darlene F. Williams,
General Deputy Assistant Secretary, Office of Policy Development and Research.

[FR Doc. 03-30317 Filed 12-5-03; 8:45 am]

BILLING CODE 4210-62-P